DEPARTMENT OF EDUCATION

Applications for New Awards; Charter Schools Program (CSP) Grants for Replication and Expansion of High-Quality Charter Schools; Correction

Catalog of Federal Domestic Assistance (CFDA) Number: 84.282M.

AGENCY: Office of Innovation and Improvement, Department of Education.

ACTION: Notice; correction.

SUMMARY: On June 20, 2014, we published in the Federal Register (79 FR 35323) a notice inviting applications for new awards under the CSP's Grants for Replication and Expansion of High-Quality Charter Schools. This correction notice changes the deadline date for intergovernmental review from October 3, 2014, to July 21, 2014.

DATES: Effective July 16, 2014.

SUPPLEMENTARY INFORMATION:

Correction

In the Federal Register of June 20, 2014 (79 FR 35323), on page 35323, in the middle column under the heading Overview Information, and on page 35327, in the middle of the third column, under 3. Submission Dates and Times, we change the deadline date for intergovernmental review from “October 3, 2014,” to “July 21, 2014.”

Also, on page 35327, in the middle of the third column, under 4. Intergovernmental Review, we correct the paragraph to read:

This program is subject to Executive Order 12372 and the regulations in 34 CFR part 79. However, under 34 CFR 79.8(a), we have shortened the standard intergovernmental review period in order to make an award by the end of FY 2014.

Program Authority: Consolidated Appropriations Act, 2014, division H, Public Law 113-76; and title V, part B of the Elementary and Secondary Education Act of 1965, as amended.

FOR FURTHER INFORMATION CONTACT: LaShawndra Thornton, U.S. Department of Education, 400 Maryland Avenue SW., Room 4W257, Washington, DC 20202-5970. Telephone: (202) 453-5617 or by email: lashawndra.thornton@ed.gov.

If you use a telecommunications device for the deaf (TDD) or a text telephone (TTY), call the Federal Relay Service, toll free, at 1-800-877-8339.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: July 11, 2014.
Nadya Chinoy Dabby,
Assistant Deputy Secretary for Innovation and Improvement.

[FR Doc. 2014-16673 Filed 7-15-14; 8:45 am]

BILLING CODE 4000-01-P